DEPARTMENT OF THE INTERIOR

Bureau of Land Management

[LLES003420.L14300000.EU0000; MNES-056512]

Notice of Realty Action: Modified Competitive Sale of Public Lands in Becker County, MN

AGENCY: Bureau of Land Management, Interior.

ACTION: Notice of realty action.

SUMMARY: The Bureau of Land Management (BLM), Northeastern States Field Office, proposes to offer for sale two parcels of public land totaling 1 acre in Becker County, Minnesota. The sale will be subject to the Federal Land Policy and Management Act of 1976 (FLPMA), and BLM land sale regulations. The BLM proposes to conduct the sale using sealed bid modified competitive procedures pursuant to BLM regulations.

DATES: The BLM must receive written comments regarding the proposed sale at the address listed below on or before July 20, 2012. The BLM will accept sealed bids for the offered lands from qualified bidders no later than 3 p.m. local time on August 6, 2012. Sealed bids will be opened the following day, which will be the date of the sale.

ADDRESSES: Written comments concerning the proposed sale should be addressed to the Field Manager, BLM, Northeastern States Field Office, 626 East Wisconsin Avenue, Suite 200, Milwaukee, Wisconsin 53202-4617. Sealed bids must also be submitted to this address.

FOR FURTHER INFORMATION CONTACT: Carol Grundman, Realty Specialist, 414-297-4447; at the address listed above; or via email at cgrundma@blm.gov. More detailed information regarding the sale can be found at the BLM Eastern States Web site at: http://www.blm.gov/es/st/en.html. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following two parcels of public land have been examined and found suitable for modified competitive sale to adjacent landowners in accordance with Sections 203 the FLPMA, as amended (43 U.S.C. 1713), and implementing regulations at 43 CFR 2711.3-2, at no less than the appraised fair market value of the land:

Fifth Principal Meridian

Parcel No. 1

T. 139 N., R. 41 W.,

Sec. 18, lot 1.

The area described contains 0.50 acres in Becker County, and is proposed for sale to the adjacent landowners, Richard D. Davis and Curtis Ullrich.

Parcel No. 2

T. 139 N., R. 41 W.,

Sec. 18, lot 2.

The area described contains 0.50 acres in Becker County, and is proposed for sale to the adjacent landowners, Bruce and Joan Wilken and Jeffrey and Linda Schlauderaff.

The Federal land is not needed for any Federal purpose and the disposal is in the public interest and in conformance with the BLM Minnesota Management Framework Plan dated September 9, 1982, and the BLM Minnesota Management Framework Plan Evaluation dated September 4, 2004. The purpose of the sale is to dispose of lands which are difficult and uneconomic to manage as part of the public lands because of their isolated location and lack of legal access. The BLM is proposing a modified competitive sale to allow adjacent landowners who control access to the public land an equal opportunity to bid on the property.

Bidding under modified competitive sale procedures is open only to identified adjacent landowners who must submit sealed bids to the BLM, Northeastern States Field Office (See ADDRESSES above), no later than 3 p.m. local time on August 6, 2012. If the adjacent landowners fail to exercise the preference consideration offered by the modified competitive sale and no successful bids are received, then the parcels will remain available for sale on a continuing basis in accordance with competitive sale procedures found at 43 CFR 2711.3-1 without further legal notice. Bids submitted to the BLM under competitive sale procedures will be opened on a monthly basis on the first Friday of each month at 10 a.m. local time, at the BLM, Northeastern States Field Office, until a successful bid is received or the sale is cancelled.

Sealed bid envelopes must be clearly marked on the front lower left-hand corner with “SEALED BID BLM LAND SALE, MNES-056512”. The bid envelope must contain a signed statement showing the total amount of the bid and the name, mailing address, and phone number of the entity making the bid. Bids must be equal to or greater than the federally appraised fair market value of the land. The appraised fair market values will be made available 30 days prior to the sealed bid closing date at the BLM, Northeastern States Field Office, and on the Web site (See ADDRESSES and FOR FURTHER INFORMATION CONTACT sections above). Each sealed bid must be accompanied by a certified check, money order, bank draft, or cashier's check made payable to the Bureau of Land Management for an amount not less than 20 percent of the total amount of the bid. Personal checks will not be accepted.

Sealed bids will be opened to determine the high bid at 10 a.m. local time the day after the bids are due, at the BLM, Northeastern States Field Office (See ADDRESSES above). The highest qualifying bid will be declared the high bid for the parcel and the high bidder will receive written notice. Bidders submitting matching high bid amounts for a parcel will be provided an opportunity to submit a supplemental sealed bid. Bid deposits submitted by unsuccessful bidders will be returned by U.S. mail.

The successful bidder will be allowed 180 days from the date of sale to submit the remainder of the full bid price in the form of a certified check, money order, bank draft, or cashier's check made payable to the Bureau of Land Management. Personal checks will not be accepted. Failure to submit the remainder of the full bid price prior to but not including the 180th day following the day of the sale, will result in the forfeiture of the bid deposit to the BLM, and the parcel will be offered to the second highest qualifying bidder at their original bid.

Federal law requires that bidders must be: (1) United States citizens 18 years of age or older, (2) A corporation subject to the laws of any State or of the United States, (3) An entity legally capable of acquiring and owning real property, or interests therein, under the laws of the State of Minnesota, or (4) A State, State instrumentality, or political subdivision authorized to hold real property. Certifications and evidence to this effect will be required of the purchaser prior to issuance of a patent.

Publication of this Notice in the Federal Register segregates the subject lands from all forms of appropriation under the public land laws, except sale under the provisions of the FLPMA. The segregation will terminate upon issuance of a patent, upon publication in the Federal Register of a termination of the segregation, or on June 5, 2014, unless extended by the BLM State Director, Eastern States, in accordance with 43 CFR 2711.1-2(d) prior to the termination date.

Any conveyance document issued would contain the following terms, conditions, and reservations:

1. The conveyance will be subject to all valid existing rights of record;

2. All minerals, together with the right to prospect for, mine, and remove such deposits from the same under applicable law and such regulations as the Secretary of the Interior may prescribe shall be reserved to the United States.

3. An appropriate indemnification clause protecting the United States from claims arising out of the patentee's use, occupancy, or operations on the patented land; and

4. Additional terms and conditions that the authorized officer deems appropriate to ensure proper land use and protection of the public interest.

No warranty of any kind, expressed or implied, is given by the United States as to the title, physical condition or potential uses of the lands proposed for sale, and conveyance will not be on a contingency basis. To the extent required by law, the parcels are subject to the requirements of Section 120(h) of the Comprehensive Environmental Response, Compensation, and Liability Act (42 U.S.C. 9620(h)) (CERCLA), as amended. It is the buyer's responsibility to be aware of all applicable local government policies and regulations that may affect the subject land or its future uses. It is also the buyer's responsibility to be aware of existing or prospective uses of nearby properties. Any land lacking access from a public road or highway will be conveyed as such, and future access acquisition will be the responsibility of the buyer. Detailed information concerning the proposed land sale, including the appraisals, planning and environmental documents, and mineral reports, are available for review at the BLM Northeastern States Field Office at the address listed above.

Public Comments: Interested parties and the general public may submit written comments concerning the parcels being considered for sale, including notification of any encumbrances or other claims relating to the identified lands, to the Field Manager, BLM, Northeastern States Field Office, at the above address on or before July 20, 2012. Comments transmitted via email or facsimile will not be considered. Before including your address, phone number, email address, or other personal identifying information in your comment, you should be aware that your entire comment—including your personal identifying information—may be made publicly available at any time. While you can ask us in your comment to withhold your personal identifying information from public review, we cannot guarantee that we will be able to do so. The BLM will make available for public review, in their entirety, all comments submitted by businesses or organizations, including comments by an individual in their capacity as an official or representative of a business or organization. Comments will be available for public review at the BLM, Northeastern States Field Office, during regular business hours, except holidays.

Any adverse comments will be reviewed by the BLM State Director, Eastern States, who may sustain, vacate, or modify this realty action. In the absence of timely filed objections, this realty action will become the final determination of the Department of the Interior.

Authority: 43 CFR 2711.1-2.

Randall C. Anderson,
Acting Field Manager.

[FR Doc. 2012-13578 Filed 6-4-12; 8:45 am]

BILLING CODE 4310-GJ-P